DEPARTMENT OF STATE

[Public Notice 10776]

Notice of Public Meeting

The Department of State will conduct an open meeting at 1:30 p.m. on Thursday, June 20, 2019, in Room 5Y23-21 of the Douglas A. Munro Coast Guard Headquarters Building at St. Elizabeth's, 2703 Martin Luther King Jr. Avenue SE, Washington, DC 20593. The primary purpose of the meeting is to prepare for the sixth session of the International Maritime Organizations (IMO) Sub-Committee on Implementation of IMO Instruments (III 6) to be held at the IMO headquarters, London, United Kingdom, on July 01-05, 2019.

The agenda items to be considered include:

—Decisions of other IMO bodies;

—Consideration and analysis of reports on alleged inadequacy of port reception facilities;

—Lessons learned and safety issues identified from the analysis of marine safety investigation reports;

—Measures to harmonize port state control (PSC) activities and procedures worldwide;

—Identified issues related to the implementation of IMO instruments from the analysis of PSC data;

—Analysis of consolidated audit summary reports;

—Updated survey guidelines under the Harmonized System of Survey and Certification (HSSC);

—Non-exhaustive list of obligations under the instruments relevant to the IMO Instruments Implementation Code (III Code); and

—Unified interpretation of provisions of IMO safety, security, and environment related conventions.

—Finalization of a non-mandatory instrument on regulations for non-convention ships.

The public meeting will focus on answering any questions from the public that are directly related to the meeting documents submitted for this meeting. The public may attend this meeting up to the seating capacity of the room. However, due to the size of the room and security protocols at Coast Guard Headquarters, members of the public are encouraged to participate via teleconference. To access the teleconference line or request physical access to the meeting or reasonable accommodation, participants should contact the meeting coordinator, Mr. Christopher Gagnon, by email at christopher.j.gagnon@uscg.mil or by phone at (202) 372-1231. Physical access to the meeting requires that all attendees respond to the meeting coordinator not later than June 13, 2019, five working days prior to the meeting. Responses made after June 13, 2019 might result in not being able to participate in person at the meeting. Please note that due to security considerations, two valid, government issued photo identifications must be presented to gain entrance to the Coast Guard Headquarters building. The building is accessible by public transportation or taxi.

Joel C. Coito,
Coast Guard Liaison Officer, Office of Ocean and Polar Affairs, Department of State.

[FR Doc. 2019-11046 Filed 5-24-19; 8:45 am]

BILLING CODE 4710-09-P